DEPARTMENT OF ENERGY

Federal Energy Regulatory Commission

[Docket No. RP00-254-002]

Dauphin Island Gathering Partners; Notice of Proposed Changes In FERC Gas Tariff

June 14, 2000.

Take notice that on June 8, 2000, Dauphin Island Gathering Partners (DIGP) tendered for filing as part of its FERC Gas Tariff, First Revised Volume No. 1, the tariff sheets listed below to become effective January 1, 2000.

Second Revised Sheet No. 6

Second Revised Sheet No. 8

Second Revised Sheet No. 178

Second Revised Sheet No. 179

DIGP states that these tariff sheets correct an error in the effective date shown in DIGP's April 24, 2000 filing pursuant to the Commission's Letter Order issued May 24, 2000 in Docket No. RP00-254.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are of file with the Commission and are available for public inspection in the Public Reference Room. This filing may be viewed on the web at http://www.ferc.fed.us/online/rims.htm (call 202-208-2222 for assistance).

Linwood A. Watson, Jr.,
Acting Secretary.

[FR Doc. 00-15479 Filed 6-19-00; 8:45 am]

BILLING CODE 6717-01-M